NATIONAL SCIENCE FOUNDATION

Sunshine Act Meeting

DATE AND TIME: August 2, 2000: 12:30 p.m.—1 p.m.—Closed Session.

August 3, 2000: 11:30 a.m.—12 Noon—Closed Session.

August 3, 2000: 12:30 p.m.—4:30 p.m.—Open Session.

August 3, 2000: 4:30 p.m.—6 p.m.—Closed Session.

PLACE: The National Science Foundation, Room 1235, 4201 Wilson Boulevard, Arlington, VA 22230.

STATUS: Part of this meeting will be closed to the public. Part of this meeting will be open to the public.

MATTERS TO BE CONSIDERED:

Wednesday, August 2

Closed Session (12:30 p.m.—1 p.m.)

—Closed Session Minutes, May 2000

—NSB Executive Committee Elections

—NSB Member Proposals

Thursday, August 3

Closed Session (11:30 a.m.—12 Noon)

—Awards and Agreements

Open Session (12:30 p.m.—4:30 p.m.)

—Swearing-in, NSB Nominees

—Open Session Minutes, May 2000

—Closed Session Items for October 2000

—Chairman's Report

—Director's Report

—NSF Planning Issues

Priority Setting; Diversity

—National S&E Infrastructure

—EHR Program Approvals

Federal Cyber Service

Centers for Learning and Teaching

—NSB Report—Communicating Science in the National Interest

—Committee Reports

—Presentation: NSF Office of the Inspector General

—Other Business

Closed Session (4:30 p.m.—6 p.m.)

—FY 2000 budget

Martha Cehelsky,
Executive Officer.

[FR Doc. 00-18972 Filed 7-24-00; 10:10 am]

BILLING CODE 7555-01-M